DEPARTMENT OF DEFENSE

Department of the Army

32 CFR Part 552

[Docket ID: USA-2018-HQ-0015]

RIN 0702-AA95

Regulations Affecting Military Reservations

AGENCY: Department of the Army, DoD.

ACTION: Final rule.

SUMMARY: This final rule removes subparts containing internal policies concerning real estate claims upon contract, and obsolete information on the operation and use of fishing facilities at Fort Monroe, Virginia and the restriction of training areas on Fort Benjamin Harrison, Indiana. Those military installations have been decommissioned.

DATES: This rule is effective on April 19, 2019.

FOR FURTHER INFORMATION CONTACT: Arthur Dias at 703-697-0843.

SUPPLEMENTARY INFORMATION: These subparts convey internal Army policy and procedures and obsolete regulations for military installations decommissioned through the Defense Base Closure Act of 1990 and the National Defense Authorization Act of Fiscal Year 2002. The subparts are unnecessary.

It has been determined that public comment on the removal of these subparts is impracticable, unnecessary, and contrary to public interest since it is based on removing obsolete information and DoD internal policies and procedures that are publicly available on the Department's website. DoD internal guidance will continue to be published in Engineer Regulation 405-1-21, “Claims and Damages,” available at https://www.publications.usace.army.mil/USACE-Publications/Engineer-Regulations.

This rule is not significant under Executive Order (E.O.) 12866, “Regulatory Planning and Review,” therefore, E.O. 13771, “Reducing Regulation and Controlling Regulatory Costs” does not apply.

List of Subjects in 32 CFR Part 552

Claims, Consumer protection, Federal buildings and facilities, Government employees, Life insurance, Military personnel, Youth organizations.

Accordingly, 32 CFR part 552 is amended as follows:

PART 552—REGULATIONS AFFECTING MILITARY RESERVATIONS

1. The authority citation for part 552 continues to read as follows:

Authority: 5 U.S.C. 301; 10 U.S.C. 3012, 15 U.S.C. 1601; 18 U.S.C. 1382; 31 U.S.C. 71; 40 U.S.C. 258a; 41 U.S.C. 14; 50 U.S.C. 797.

Subpart A—[Removed and Reserved]

2. Amend part 552 by removing and reserving subpart A, consisting of § 552.16.

Subpart K—[Removed and Reserved]

3. Amend part 552 by removing and reserving subpart K, consisting of §§ 552.140 through 552.145.

Subpart N—[Removed and Reserved]

4. Amend part 552 by removing and reserving subpart N, consisting of §§ 552.180 through 552.185.

Brenda S. Bowen,
Army Federal Register Liaison Officer.

[FR Doc. 2019-07897 Filed 4-18-19; 8:45 am]

BILLING CODE 5001-03-P